DEPARTMENT OF COMMERCE

Foreign-Trade Zones Board

[B-63-2020]

Foreign-Trade Zone (FTZ) 26—Atlanta, Georgia; Notification of Proposed Production Activity; Zinus USA Inc. (Foam Bedding), McDonough, Georgia

Zinus USA Inc. (Zinus) submitted a notification of proposed production activity to the FTZ Board for its facility in McDonough, Georgia. The notification conforming to the requirements of the regulations of the FTZ Board (15 CFR 400.22) was received on October 22, 2020.

The Zinus facility is located within Subzone 26T. The facility will be used for the production of home furnishing products, including beds and furniture. Pursuant to 15 CFR 400.14(b), FTZ activity would be limited to the specific foreign-status materials and components and specific finished products described in the submitted notification (as described below) and subsequently authorized by the FTZ Board.

Production under FTZ procedures could exempt Zinus from customs duty payments on the foreign-status components used in export production. On its domestic sales, for the foreign-status materials/components noted below, Zinus would be able to choose the duty rates during customs entry procedures that apply to foam beds, foam pillows and foam cushions (duty rate ranges from 3.0% to 6.0%). Zinus would be able to avoid duty on foreign-status components which become scrap/waste. Customs duties also could possibly be deferred or reduced on foreign-status production equipment.

The components and materials sourced from abroad include: polyol; polyether polyol; polyester polyol; methylene diphenyl diisocyanate; toluene diisocyanate; urea; catalyst; surfactant containing silicone polyalkyleneoxide copolymer and polyether polyol; surfactant containing polyalkyleneoxide modified polysiloxane and polyalkylene glycol; chlorinated paraffin; corn starch; styrene-butadiene; antibacterial agent; charcoal; contact adhesive; and, green tea extract (duty rate ranges from duty-free to 6.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 14, 2020.

A copy of the notification will be available for public inspection in the “Reading Room” section of the Board's website, which is accessible via www.trade.gov/ftz.

For further information, contact Juanita Chen at juanita.chen@trade.gov or 202-482-1378.

Dated: October 27, 2020.
Andrew McGilvray,
Executive Secretary.

[FR Doc. 2020-24204 Filed 10-30-20; 8:45 am]

BILLING CODE 3510-DS-P